DEPARTMENT OF LABOR

Occupational Safety and Health Administration

[Docket No. OSHA-2007-0043]

TUV SUD America, Inc.: Application for Expansion of Recognition

AGENCY: Occupational Safety and Health Administration (OSHA), Labor.

ACTION: Notice.

SUMMARY: In this notice, OSHA announces the application of TUV SUD America, Inc., for expansion of the scope of recognition as a Nationally Recognized Testing Laboratory (NRTL) and presents the agency's preliminary finding to grant the application.

DATES: Submit comments, information, and documents in response to this notice, or requests for an extension of time to make a submission, on or before August 30, 2023.

ADDRESSES: Comments may be submitted as follows:

Electronically: You may submit comments, including attachments, electronically at: http://www.regulations.gov, the Federal eRulemaking Portal. Follow the online instructions for submitting comments.

OSHA will place comments, including personal information, in the public docket, which will be available online. Therefore, OSHA cautions interested parties about submitting personal information such as Social Security numbers and birthdates.

Instructions: All submissions must include the agency's name and the docket number for this rulemaking (Docket No. OSHA-2007-0043). All comments, including any personal information you provide, are placed in the public docket without change and may be made available online at https://www.regulations.gov. Therefore, OSHA cautions commenters about submitting information they do not want made available to the public, or submitting materials that contain personal information (either about themselves or others), such as Social Security numbers and birthdates.

Docket: To read or download comments or other material in the docket, go to http://www.regulations.gov. Documents in the docket (including this Federal Register notice) are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Extension of comment period: Submit requests for an extension of the comment period on or before August 30, 2023 to the Office of Technical Programs and Coordination Activities, Directorate of Technical Support and Emergency Management, Occupational Safety and Health Administration, U.S. Department of Labor, 200 Constitution Avenue NW, Room N-3653, Washington, DC 20210.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2300 or email: robinson.kevin@dol.gov.

SUPPLEMENTARY INFORMATION:

I. Notice of the Application for Expansion

OSHA is providing notice that TUV SUD America, Inc. (TUVAM), is applying for an expansion of current recognition as a NRTL. TUVAM requests the addition of nine test sites to its NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition, as well as for an expansion or renewal of recognition, following requirements in Appendix A to 29 CFR 1910.7. This appendix requires that the agency publish two notices in the Federal Register in processing an application. In the first notice, OSHA announces the application and provides the preliminary finding. In the second notice, the agency provides the final decision on the application. These notices set forth the NRTL's scope of recognition or modifications of that scope. OSHA maintains an informational web page for each NRTL, including TUVAM, which details that NRTL's scope of recognition. These pages are available from the OSHA website at http://www.osha.gov/dts/otpca/nrtl/index.html.

TUVAM currently has 7 facilities (sites) recognized by OSHA for product testing and certification, with the headquarters located at: TUV SUD America, Inc., 401 Edgewater Place, Suite #500, Wakefield, Massachusetts 01880. A complete list of TUVAM's scope of recognition is available at https://www.osha.gov/nationally-recognized-testing-laboratory-program/tuvam.

II. General Background on the Application

TUVAM submitted an application, dated January 24, 2021 (OSHA-2007-0043-0045), requesting the conversion of ten existing Satellite Notification Acceptance Program (SNAP) sites to recognized sites under the NRTL Policy for Transitioning to Satellite Notification and Acceptance Program Termination (SNAP Transition Policy) published in the Federal Register on November 24, 2020 (85 FR 75042), as amended by a June 22, 2022 Memorandum from James S. Frederick, Deputy Assistant Secretary for Occupational Safety and Health, to Regional Administrators and Executive Staff, titled “Second Revision to the Nationally Recognized Testing Laboratory (NRTL) Policy for Transitioning to Satellite Notification and Acceptance Program (SNAP) Termination.” TUVAM amended their application on December 10, 2021 (OSHA-2007-0043-0046), to remove one site from the original request, leaving nine sites to be considered in the expansion request.

Table 1 below, lists the nine sites that TUVAM's application requested for inclusion in the NRTL's expanded scope of recognition:

Table 1—List of Test Sites To Be Included in TUVAM's NRTL Scope of Recognition
TUVAM site name | Address | Country
Shenzhen | Building 6, 12 & 13, Zhiheng Wisdomeland Business Park Nantou Checkpoint Road 2, 518052, Shenzhen, Guangdong Province | China.
Gormley | 11 Gordon Collins Drive, Gormley, Ontario, L0H 1G0 | Canada.
Fareham | Octagon House, Concorde Way, Segensworth North, Fareham, Hampshire, PO15 5RL, United Kingdom | United Kingdom.
Seoul | 10, Gukjegumyung-ro, Yeongdeungpo-gu, Seoul, Republic of Korea | Korea.
Tampa | 5610 West Sligh Avenue, Suite 100, Tampa, Florida | United States.
Tokyo | Sumitmo Fudosan, Nishi-shinjuku Bldg. No 4 8F 4-33-4, Nishi-Shinjuku, Sjinjuku-ku, Tokyo, 160-0023 Japan | Japan.
Taipei | 7F, No 37, Section 2, Zhongyang, South Road, Beitou District, 11270 Taipei City, Taiwan | Taiwan.
Singapore | No. 15 International Business Park Singapore 609937 | Singapore.
Guangzhou | 5F/8F (East), Communication Building, 163 Pingyun Road, Huangpu Avenue West, Guangzhou, 510656, Guangdong Province | China.

OSHA has preliminarily determined that it is appropriate to review this application under the SNAP Transition Policy. TUVAM's application was timely submitted under that policy, and OSHA preliminarily finds that the SNAP sites in TUVAM's application met all other preconditions of eligibility for conversion to recognized sites under the policy (See SNAP Transition Policy, part III 1.a-g, 85 FR at 75047). OSHA also preliminarily decided that it was not necessary to conduct on-site reviews in connection with TUVAM's expansion application, based on historical assessment records and supporting documentation submitted by TUVAM. Moreover, OSHA staff performed assessments of several TUVAM facilities included in the SNAP conversion application from June 2020 to November 2022, and, while assessors found some nonconformances with the requirements of 29 CFR 1910.7, TUVAM addressed these issues sufficiently. OSHA staff has preliminarily determined that OSHA should grant the application and grant recognition to the nine sites requested in the application.

III. Preliminary Finding on the Application

TUVAM submitted an acceptable application for expansion of its scope of recognition. OSHA's review of the application file and pertinent documentation indicates that TUVAM can meet the requirements prescribed by 29 CFR 1910.7 for expanding its recognition to include the addition of the nine additional test sites for NRTL testing and certification. This preliminary finding does not constitute an interim or temporary approval of TUVAM's application.

OSHA seeks public comment on this preliminary determination.

IV. Public Participation

OSHA welcomes public comment as to whether TUVAM meets the requirements of 29 CFR 1910.7 for expansion of recognition as a NRTL. Comments should consist of pertinent written documents and exhibits.

Commenters needing more time to comment must submit a request in writing, stating the reasons for the request by the due date for comments. OSHA will limit any extension to 10 days unless the requester justifies a longer time period. OSHA may deny a request for an extension if it is not adequately justified.

To review copies of the exhibit identified in this notice, as well as comments submitted to the docket, contact the Docket Office, Occupational Safety and Health Administration, U.S. Department of Labor. These materials also are generally available online at https://www.regulations.gov under Docket No. OSHA-2007-0043 (for further information, see the “Docket” heading in the section of this notice titled ADDRESSES).

OSHA staff will review all comments to the docket submitted in a timely manner. After addressing the issues raised by these comments, staff will make a recommendation to the Assistant Secretary of Labor for Occupational Safety and Health on whether to grant TUVAM's application for expansion of the scope of recognition. The Assistant Secretary will make the final decision on granting the application. In making this decision, the Assistant Secretary may undertake other proceedings prescribed in Appendix A to 29 CFR 1910.7.

OSHA will publish a public notice of the final decision in the Federal Register.

IV. Authority and Signature

James S. Frederick, Deputy Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393; Sept. 18, 2020), and 29 CFR 1910.7.

Signed at Washington, DC, on August 9, 2023.
James S. Frederick,
Deputy Assistant Secretary of Labor for Occupational Safety and Health.

[FR Doc. 2023-17429 Filed 8-14-23; 8:45 am]

BILLING CODE 4510-26-P